DEPARTMENT OF ENERGY

Federal Energy Regulatory Commission

[Docket No. IC22-12-000]

Commission Information Collection Activities (Ferc-729); Comment Request; Extension

AGENCY: Federal Energy Regulatory Commission.

ACTION: Notice of information collection and request for comments.

SUMMARY: In compliance with the requirements of the Paperwork Reduction Act of 1995, the Federal Energy Regulatory Commission (Commission or FERC) is soliciting public comment on the currently approved information collection, FERC-729 (Electric Transmission Facilities).

DATES: Comments on the collection of information are due June 14, 2022.

ADDRESSES: You may submit your comments (identified by Docket No. IC22-12-000) by one of the following methods:

Electronic filing through http://www.ferc.gov, is preferred.

• Electronic Filing: Documents must be filed in acceptable native applications and print-to-PDF, but not in scanned or picture format.

• For those unable to file electronically, comments may be filed by USPS mail or by hand (including courier) delivery:

○ Mail via U.S. Postal Service Only: Addressed to: Federal Energy Regulatory Commission, Secretary of the Commission, 888 First Street NE, Washington, DC 20426.

○ Hand (including courier) delivery: Addressed to: Federal Energy Regulatory Commission, Secretary of the Commission, 12225 Wilkins Avenue, Rockville, MD 20852.

Instructions: All submissions must be formatted and filed in accordance with submission guidelines at: http://www.ferc.gov. For user assistance, contact FERC Online Support by email at ferconlinesupport@ferc.gov, or by phone at (866) 208-3676 (toll-free).

Docket: Users interested in receiving automatic notification of activity in this docket or in viewing/downloading comments and issuances in this docket may do so at http://www.ferc.gov.

FOR FURTHER INFORMATION CONTACT: Ellen Brown may be reached by email at: DataClearance@FERC.gov, telephone at (202) 502-8663, and fax at: (202) 273-0873.

SUPPLEMENTARY INFORMATION:

Title: FERC-729, Electric Transmission Facilities.

OMB Control No.: 1902-0238.

Type of Request: Three year extension of the existing information collection.

Abstract: This information collection consists of the filing requirements for entities seeking to construct electric transmission facilities pursuant to the Commission's authority under section 216 of the Federal Power Act (FPA). Specifically, section 216(b) of the FPA authorizes the Commission, under certain circumstances, to issue permits for the construction of electric transmission facilities within national interest electric transmission corridors designated by the Secretary of Energy.

The purpose of the Commission's part 50 regulations (18 CFR part 50) is to provide for efficient and timely review of requests for permits for the siting of proposed electric transmission facilities under section 216 of the FPA. The regulations include filing requirements associated with the Commission's pre-filing and application review processes. For the Commission's pre-filing process, the regulations require applicants to file a pre-filing request (50.5(c)) and subsequent information after the commencement of the pre-filing process (50.5(e)), including a finalized Project Participation Plan, a summary of project alternatives, draft resource reports, and monthly status reports. After the conclusion of the pre-filing process, the regulations require applicants to file an application consisting of general project information (50.6) and ten exhibits (50.7), including project maps, an environmental report, engineering data, and system analysis data.

Type of Respondent: Entities proposing to construct electric transmission facilities pursuant to the Commission's authority under section 216 of the FPA.

Estimate of Annual Burden: The Commission estimates the annual public reporting burden ¹ for the information collection as:

¹ “Burden” is the total time, effort, or financial resources expended by persons to generate, maintain, retain, or disclose or provide information to or for a Federal agency. For further explanation of what is included in the information collection burden, refer to 5 CFR 1320.3.

² FERC staff estimates that industry costs for salary plus benefits are similar to Commission costs. The cost figure is the FY2021 FERC average annual salary plus benefits ($180,702/year or $87/hour).

FERC-729 (OMB Control No. 1902-0238): Electric Transmission Facilities
| Number of respondents | Annual number of responses per respondent | Total number of responses | Average burden & cost per response ² | Total annual burden hours & total annual cost
| (1) | (2) | (1) * (2) = (3) | (4) | (3) * (4) = (5)
Electric Transmission Facilities | 1 | 1 | 1 | 9,600, $835,200 | 9,600, $835,200.

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: April 11, 2022.
Debbie-Anne A. Reese,
Deputy Secretary.

[FR Doc. 2022-08124 Filed 4-14-22; 8:45 am]

BILLING CODE 6717-01-P